DEPARTMENT OF COMMERCE

Census Bureau

Agency Information Collection Activities; Submission to the Office of Management and Budget (OMB) for Review and Approval; Comment Request; Automated Export System Program

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision to the Automated Export System Program prior to the submission of the information collection request (ICR) to OMB for approval.

DATES: To ensure consideration, comments regarding this proposed information collection must be received on or before January 20, 2023.

ADDRESSES: Interested persons are invited to submit written comments by email to Thomas.J.Smith@census.gov. Please reference Automated Export System Program in the subject line of your comments. You may also submit comments, identified by Docket Number USBC-2022-0023, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kiesha Downs, Chief, Trade Regulations Branch, U.S. Census Bureau, 4600 Silver Hill Road, Washington, DC 20233-6700, (301) 763-7079, or by email kiesha.downs@census.gov.

SUPPLEMENTARY INFORMATION:

I. Abstract

Title 13, United States Code (U.S.C.), Chapter 9, Section 301 authorizes the U.S. Census Bureau (Census Bureau) to collect, compile and publish trade data. Title 15, Code of Federal Regulations (CFR), Part 30, known as the Foreign Trade Regulations (FTR), contains the regulatory provisions for preparing and filing Electronic Export Information (EEI) in the Automated Export System (AES). The Census Bureau uses the AES or successor system as the instrument for collecting export trade data from parties exporting commodities from the United States. In addition to the collection of data, the Census Bureau compiles these export data from the AES. These data, along with import data function as the basis for the official U.S. trade statistics. The Census Bureau publishes import and export statistics that are used to determine the balance of international trade and are designated for use as a principal economic indicator. The Census Bureau releases these statistics monthly according to the U.S. International Trade in Goods and Services Press Release Schedule.

These data are used in the development of U.S. government economic and foreign trade policies, including export control purposes under Title 50, U.S.C. The Bureau of Industry and Security, U.S. Customs and Border Protection (CBP), and other enforcement agencies use these data to detect and prevent the export of certain items by unauthorized parties to unauthorized destinations or end users. The published export data enables U.S. businesses to develop practical marketing strategies as well as provide a means to assess the impact of exports on the domestic economy.

Recently, the Census Bureau published a Notice of Proposed Rulemaking (NPRM) on December 15, 2021. The NPRM proposed to add a conditional data element, country of origin, in the AES. In addition to the new reporting requirement, the Census Bureau is making remedial changes to the FTR to improve clarity of the reporting requirements and to correct errors. It is critical for the Census Bureau to ensure that any revisions made to the FTR will allow for the continued collection and compilation of complete, accurate and timely trade statistics. This proposed rule would require an exporter to report the country of origin only when foreign origin goods are exported.

II. Method of Collection

Automated Export System

Except as noted in Title 15 CFR, Part 30, Section 30.2(a)(1)(iv), EEI is required for all export shipments of goods valued over $2,500 per Schedule B or Harmonized Tariff Schedule of the United States commodity classification number from the United States, including Foreign Trade Zones located therein, Puerto Rico, and the U.S. Virgin Islands to foreign countries; for exports between the United States and Puerto Rico; and for exports to the U.S. Virgin Islands from the United States or Puerto Rico. The AES program is unique among Census Bureau statistical collections since it is not sent to respondents to solicit responses, as is the case with surveys. Filing EEI via the AES is a mandatory process under the statutory authority of Title 13 U.S.C., Chapter 9, Section 301. The statutory requirement is implemented by Title 15, CFR, Part 30, also referred to as the FTR. The export trade community can access the AES via a free internet-based system, called AESDirect, or they can use software that connects directly with the Automated Commercial Environment (ACE). In most instances, the United States Principal Party in Interest or authorized agent must file EEI via the AES and annotate the commercial loading documents with the proof of filing citation prior to the export of a shipment. For scenarios where the EEI filing is not required, the proper exemption or exclusion legend must be noted on the commercial loading documents per Section 30.7 of the FTR.

For exports to Canada, a Memorandum of Understanding (MOU) signed by CBP, Canada Border Services Agency, Statistics Canada, and the Census Bureau enables the United States to substitute Canadian import statistics for U.S. export statistics. Similarly, in accordance with the MOU, Canada substitutes U.S. import statistics for Canadian exports to the United States. This exchange of data eliminates the requirement for the export trade community to file the EEI with the U.S. Government for the majority of export shipments to Canada, thus resulting in the elimination of over eight million EEI records filed in the AES annually. EEI must be filed through the AES for export shipments to Canada that require mandatory EEI filing under Title 15 CFR, Part 30, Section 30.2(a)(1)(iv). In addition, export shipments from the United States through Canada destined to a country other than Canada require EEI filing in the AES.

The AES enables the U.S. Government to significantly improve the quality, timeliness, and coverage of export statistics. Since July 1995, the Census Bureau and the CBP have utilized the AES to improve the reporting of export trade information, customer service, increase compliance with and enforcement of export laws, and to provide paperless reports of export information. The AES also enables the U.S. Government to increase its ability to prevent the export of certain items by unauthorized parties to unauthorized destinations and end users through electronic filing.

In addition to the AES, CBP continues to explore the ability to receive advance export manifest data, which may improve the accuracy of transportation data elements in the EEI filing and reduce updates to shipment information. CBP has extended and renewed its tests of the ACE Export Manifest for air, rail, and ocean cargo. These tests assess the electronic export manifest message specifications from the pilot participants to the ACE. These pilots are focused on CBP receiving electronic data and returning specific status messages back to the pilot participants. Since August 2021, the Census Bureau has been evaluating the collection of data from the electronic export rail manifest for goods moving from Port Huron, MI and departing on one rail carrier. The evaluation has proven that transportation data provided by the carrier is more accurate than transportation data estimated by the U.S. Principal Party in Interest and authorized agent. The Census Bureau's evaluation of the data quality from the electronic export rail manifest included the data elements: method of transportation, date of export, port of export, carrier identification and carrier name and foreign port of unlading.

Steel Mill Statistics

Since 1999, the Department of Commerce (DOC) has been approved to release data on imports of steel mill products in advance of the regular monthly trade statistics release. The International Trade Administration relies heavily on the preliminary import statistics of steel mill products provided by the Census Bureau in an effort to monitor steel imports so that industry can identify trends and potential shifts in trade patterns so that appropriate action can be taken. With the revision to the AES Program in 2019, the Census Bureau eliminated the need for a separate annual approval from OMB for the early release of preliminary steel mill import statistics since it is included in this clearance.

The FTR, subpart F addresses the general requirements for filing import entries with CBP in the ACE in accordance with 19 CFR, which is the source of the import data on steel mill products.

III. Data

OMB Control Number: 0607-0152.

Form Number(s): Automated Export System.

Type of Review: Regular submission, Request for a Revision of a Currently Approved Collection.

Affected Public: Exporters, Forwarding agents, Export Carriers.

Estimated Number of Respondents: 277,489.

Estimated Time Per Response: 3 minutes per AES submission.

Estimated Total Annual Burden Hours: 851,261.

Estimated Total Annual Cost to Public: $18,727,742.

Respondent's Obligation: Mandatory.

Legal Authority: Title 13 United States Code, Chapter 9, Section 301.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-25316 Filed 11-18-22; 8:45 am]

BILLING CODE 3510-07-P